DEPARTMENT OF ENERGY

Federal Energy Regulatory Commission

Combined Notice of Filings

Take notice that the Commission has received the following Natural Gas Pipeline Rate and Refund Report filings:

Filings Instituting Proceedings

Docket Numbers: RP17-645-000.

Applicants: Algonquin Gas Transmission, LLC.

Description: Algonquin Gas Transmission, LLC submits tariff filing per 154.204: Negotiated Rates—Colonial Gas to BBPC 793648 & 793650 to be effective 4/7/2017.

Filed Date: 04/06/2017.

Accession Number: 20170406-5296.

Comment Date: 5:00 p.m. Eastern Time on Tuesday, April 18, 2017.

Docket Numbers: RP17-646-000.

Applicants: Gulfstream Natural Gas System, L.L.C.

Description: Gulfstream Natural Gas System, L.L.C. submits tariff filing per 154.204: Negotiated Rate—City of Lakeland—9198623 to be effective 4/7/2017.

Filed Date: 04/06/2017.

Accession Number: 20170406-5324.

Comment Date: 5:00 p.m. Eastern Time on Tuesday, April 18, 2017.

Docket Numbers: RP17-647-000.

Applicants: El Paso Natural Gas Company, L.L.C.

Description: Request for Waiver and Extensions of El Paso Natural Gas Company, L.L.C.

Filed Date: 04/06/2017.

Accession Number: 20170406-5540.

Comment Date: 5:00 p.m. Eastern Time on Tuesday, April 18, 2017.

Docket Numbers: RP17-648-000.

Applicants: Dauphin Island Gathering Partners.

Description: Dauphin Island Gathering Partners submits tariff filing per 154.204: Negotiated Rate Filing 5-1-2017 to be effective 5/1/2017.

Filed Date: 04/07/2017.

Accession Number: 20170407-5197.

Comment Date: 5:00 p.m. Eastern Time on Wednesday, April 19, 2017.

Docket Numbers: RP17-649-000.

Applicants: Rockies Express Pipeline LLC.

Description: Rockies Express Pipeline LLC submits tariff filing per 154.204: Neg Rate 2017-04-07 CP, BP to be effective 4/8/2017.

Filed Date: 04/07/2017.

Accession Number: 20170407-5208.

Comment Date: 5:00 p.m. Eastern Time on Wednesday, April 19, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2017.
Kimberly D. Bose,
Secretary.

[FR Doc. 2017-07711 Filed 4-14-17; 8:45 am]

BILLING CODE 6717-01-P